Title 3—

The President

Proclamation 9418 of April 8, 2016

National Crime Victims' Rights Week, 2016

By the President of the United States of America

A Proclamation

In the aftermath of a crime, it is imperative that victims have access to the resources they need to recover and to ensure that justice is done. During the 35th National Crime Victims' Rights Week, we stand with victims and their families, and we strive to ensure every person—regardless of age, color, or creed—who is victimized by crime knows they are protected, respected, and heard.

Certain populations are more vulnerable to crime, and my Administration is committed to defending the rights of crime victims everywhere and safeguarding their access to essential resources and services. Violence against women, including sexual assault, domestic violence, dating violence, and stalking, is too prevalent in our society, and we will continue doing everything we can to shine a light on these crimes wherever they exist, including on our campuses and in our military. We are taking action to reduce the number of untested rape kits in America—critical tools that can deliver justice for victims in the wake of an assault—and the Department of Justice issued new guidance to prevent gender bias when responding to cases of sexual assault and domestic violence. Additionally, the My Brother's Keeper initiative is working to reduce violence and secure second chances for our youth to ensure all young people—including those from communities disproportionately affected by violent crime—have the opportunities and resources they need to reach their full potential.

A victim's immediate interactions after a crime are often with the law enforcement officials who are the first to respond. In 2014, I created the President's Task Force on 21st Century Policing (Task Force), and in addition to promoting ways to enhance public safety across America, the Task Force issued recommendations to strengthen public trust between local law enforcement and communities, which increases the likelihood that victims and witnesses will cooperate with law enforcement after a crime. My Administration will also continue working to support the most vulnerable among us who are subject to heinous crimes—including children who are forced into sex trafficking and denied their inherent human rights, and seniors who, in too many cases, are exposed to abuse, neglect, and exploitation.

When a crime does occur, we owe it to those who suffer in its aftermath to uplift them and stand beside them. This week, as we honor those dedicated to ensuring services and support are available for victims of crime, let us rededicate ourselves to protecting crime victims' rights and upholding the basic belief that all people should be able to live safely and free from fear, violence, and intimidation.

NOW, THEREFORE, I, BARACK OBAMA, President of the United States of America, by virtue of the authority vested in me by the Constitution and the laws of the United States, do hereby proclaim April 10 through April 16, 2016, as National Crime Victims' Rights Week. I call upon all Americans to observe this week by participating in events that raise awareness of victims' rights and services, and by volunteering to serve victims in their time of need.

IN WITNESS WHEREOF, I have hereunto set my hand this eighth day of April, in the year of our Lord two thousand sixteen, and of the Independence of the United States of America the two hundred and fortieth.

[FR Doc. 2016-08699

Filed 4-12-16; 11:15 am]

Billing code 3295-F6-P